DEPARTMENT OF ENERGY

Federal Energy Regulatory Commission

Combined Notice of Filings #1

Take notice that the Commission received the following electric corporate filings:

Docket Numbers: EC16-14-000.

Applicants: Eden Solar, LLC.

Description: Application for Authorization Under Section 203 of the Federal Power Act, Request for Expedited Consideration and Confidential Treatment of Eden Solar, LLC.

Filed Date: 10/16/15.

Accession Number: 20151016-5305.

Comments Due: 5 p.m. ET 11/6/15.

Take notice that the Commission received the following electric rate filings:

Docket Numbers: ER16-89-000.

Applicants: Jether Energy Research, LTD.

Description: Baseline eTariff Filing: Application for MBR Authority to be effective 12/14/2015.

Filed Date: 10/15/15.

Accession Number: 20151015-5284.

Comments Due: 5 p.m. ET 11/5/15.

Docket Numbers: ER16-90-000.

Applicants: Golden Hills Interconnection, LLC.

Description: Baseline eTariff Filing: Golden Hills Interconnection, LLC MBR Application to be effective 11/18/2015.

Filed Date: 10/15/15.

Accession Number: 20151015-5312.

Comments Due: 5 p.m. ET 11/5/15.

Docket Numbers: ER16-91-000.

Applicants: Blythe Solar 110, LLC.

Description: Baseline eTariff Filing: Blythe Solar 110, LLC Application for MBR Authority to be effective 12/1/2015.

Filed Date: 10/15/15.

Accession Number: 20151015-5314.

Comments Due: 5 p.m. ET 11/5/15.

Docket Numbers: ER16-92-000.

Applicants: ISO New England Inc.

Description: § 205(d) Rate Filing: 2016 Capital Budget and Revised Tariff Sheets for Recovery of 2016 Admin. Costs to be effective 1/1/2016.

Filed Date: 10/16/15.

Accession Number: 20151016-5158.

Comments Due: 5 p.m. ET 11/6/15.

Docket Numbers: ER16-93-000.

Applicants: ISO New England Inc.

Description: § 205(d) Rate Filing: Revised Tariff Sheets for Recovery of Costs for 2016 Operation of NESCOE to be effective 1/1/2016.

Filed Date: 10/16/15.

Accession Number: 20151016-5173.

Comments Due: 5 p.m. ET 11/6/15.

Docket Numbers: ER16-94-000.

Applicants: ISO New England Inc.

Description: ISO New England Inc. submits Third Quarter 2015 Capital Budget Report under ER16-94.

Filed Date: 10/16/15.

Accession Number: 20151016-5183.

Comments Due: 5 p.m. ET 11/6/15.

Docket Numbers: ER16-95-000.

Applicants: Midcontinent Independent System Operator, Inc.

Description: § 205(d) Rate Filing: 2015-10-16_SA 2834 ATC-NSPW Design and Construction Agreement to be effective 12/15/2015.

Filed Date: 10/16/15.

Accession Number: 20151016-5289.

Comments Due: 5 p.m. ET 11/6/15.

Docket Numbers: ER16-96-000.

Applicants: Midcontinent Independent System Operator, Inc.

Description: § 205(d) Rate Filing: 2015-10-16_SA 2835 ATC-NPS Pole Removal and Replacement Agreement to be effective 12/15/2015.

Filed Date: 10/16/15.

Accession Number: 20151016-5291.

Comments Due: 5 p.m. ET 11/6/15.

Docket Numbers: ER16-97-000.

Applicants: Entergy Arkansas, Inc.

Description: § 205(d) Rate Filing: EAI-SWPA Amendatory Agreement to be effective 1/1/2017.

Filed Date: 10/16/15.

Accession Number: 20151016-5297.

Comments Due: 5 p.m. ET 11/6/15.

Docket Numbers: ER16-98-000.

Applicants: Windom Transmission, LLC.

Description: Baseline eTariff Filing: Windom Transmission and ALP Wind Transmission and Interconnection Agreement to be effective 12/15/2015.

Filed Date: 10/16/15.

Accession Number: 20151016-5328.

Comments Due: 5 p.m. ET 11/6/15.

Take notice that the Commission received the following electric securities filings:

Docket Numbers: ES16-1-000.

Applicants: Allegheny Generating Company.

Description: Application of Allegheny Generating Company for Authorization under Section 204(a) of the Federal Power Act to Issue Short-Term Debt Securities.

Filed Date: 10/15/15.

Accession Number: 20151015-5348.

Comments Due: 5 p.m. ET 11/5/15.

Docket Numbers: ES16-2-000.

Applicants: Mississippi Power Company.

Description: Application of Mississippi Power Company for Authorization to Issue Securities Under Section 204 of the Federal Power Act and Request tor Exemption from Competitive Bidding Requirements.

Filed Date: 10/16/15.

Accession Number: 20151016-5304.

Comments Due: 5 p.m. ET 11/6/15.

Docket Numbers: ES16-3-000.

Applicants: PacifiCorp.

Description: Application for Authorization to issue and sell up to $1.5 billion of promissory notes or other evidences of unsecured short-term indebtedness of PacifiCorp.

Filed Date: 10/16/15.

Accession Number: 20151016-5346.

Comments Due: 5 p.m. ET 11/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2015.
Nathaniel J. Davis, Sr.,
Deputy Secretary.

[FR Doc. 2015-26835 Filed 10-21-15; 8:45 am]

BILLING CODE 6717-01-P